DEPARTMENT OF HEALTH AND HUMAN SERVICES

Centers for Disease Control and Prevention

Notice of Award of Single-Source Cooperative Agreements To Fund Amhara Regional Health Bureau (ARHB), Ethiopia; Uganda Virus Research Institute (UVRI), Uganda; Hanoi Medical University (HMU), Vietnam; The Cambodian National Institute for Public Health (NIPH), Cambodia; and United Nations Office for Project Services (UNOPS)/The Stop TB Partnership (Stop TB), Headquarters (HQ)

AGENCY: Centers for Disease Control and Prevention (CDC), Department of Health and Human Services (HHS).

ACTION: Notice.

SUMMARY: The Centers for Disease Control and Prevention (CDC), within the Department of Health and Human Services (HHS), announces the award of approximately $20,000,000 for Year 1 funding to ARHB, Ethiopia; approximately $15,000,000 for Year 1 to UVRI, Uganda; approximately $2,000,000 for Year 1 funding to HMU, Vietnam; approximately $800,000 for Year 1 funding to NIPH, Cambodia; and approximately $750,000 for Year 1 funding to UNOPS/Stop TB, HQ. These awards will support implementing a comprehensive combination of HIV prevention, monitoring, diagnosis, and treatment systems; emergency preparedness and response; and reduce infectious disease burden in Ethiopia, Uganda, Vietnam, Cambodia and HQ. Funding amounts for years 2-5 will be set at continuation.

DATES: The period for this award will be September 30, 2023, through September 29, 2028.

FOR FURTHER INFORMATION CONTACT:

Ethiopia: Caroline Ryan, Center for Global Health, Centers for Disease Control and Prevention, P.O. Box 1014, Addis Ababa, Ethiopia, Telephone: 202-663-2684, Email: cgr8@cdc.gov.

Uganda: Ms. Mary Naluguza, Center for Global Health, Centers for Disease Control and Prevention, U.S. Embassy, Plot 1577 Ggaba Road, P.O. Box 7007, Kampala, Uganda, Telephone: +256-772139151, Email: yrs0@cdc.gov.

Vietnam: Amy Bailey, Center for Global Health, Centers for Disease Control and Prevention, 5th/Floor Tung Shing Building, No. 2, Ngo Quyen Street, Hoan Kiem District Hanoi, Vietnam, Telephone: 84-2439352692, Email: fue8@cdc.gov.

Cambodia: Joyce Neal, Center for Global Health, Centers for Disease Control and Prevention, #80, Samdach Pen Nut Blvd., (289) Sangkat Boeung Kak II, Khan Tuol Kork, Phnom Penh, Cambodia, Telephone: 404-433-0184, Email: jxn4@cdc.gov.

HQ: Rebekah Marshall, Center for Global Health, Centers for Disease Control and Prevention, 1600 Clifton Road, MS US1-1, Atlanta, GA 30329, Telephone: (404) 718-1126, Email: vvn2@cdc.gov.

SUPPLEMENTARY INFORMATION:

• ARHB, Ethiopia: The single-source award will continue supporting the ARHB in delivering comprehensive HIV/AIDS services to reach HIV epidemic control and other public health priorities.

The ARHB is in a unique position to conduct this work, as it is a government entity established by law with a legal authority and mandated to plan, manage, administer, and coordinate all health-related activities in the Amhara region. It is the uniquely qualified and sole agent of the Ethiopian Government with this mandate and responsibility in the Region.

• UVRI, Uganda: The single-source award will support the Ministry of Health (MOH) with the diagnosis of viral pathogens of public health concern.

UVRI is in a unique position to conduct this work, as it a MOH institution with the mandate to solely provide HIV-related quality assurance and diagnosis of viral pathogens of public health concern for the country.

• HMU, Vietnam: The single-source award will support HMU to implement innovations and generate evidence-based models for the National HIV Program and other public health programs by institutionalizing best practices through support for innovation implementation, evaluations, surveillance, and health information systems.

HMU is in a unique position to conduct this work, as it is a parastatal university affiliated to and mandated by the Ministry of Health as Vietnam's primary health workforce training and research institution in the health sector. HMU is the only institution capable of fulfilling the purpose of this NOFO due to its unique position as the sole institution in Vietnam to lead a national network of medical universities, colleges, and secondary medical schools.

• NIPH, Cambodia: The single-source award will continue supporting NIPH to fulfill their essential roles to help Cambodia reach and sustain the UNAIDS 95-95-95 goals.

NIPH is in a unique position to conduct this work, as it is the only recognized national reference laboratory authorized by the MOH under Sub-decree 67 ANKr.BK.

• UNOPS/Stop, HQ: The single-source award will continue supporting a multi-sectoral approach to re-imagine TB care.

UNOPS/STOP is in a unique position to conduct this work, as it the only organization that has been charged by the World Health Assembly, through Resolution WHA 67.1, to work with the World Health Organization to develop a global investment plan to guide the implementation of the global strategy and targets for TB prevention, care, and control after 2015, that was approved and adopted by all member states.

Summary of the Awards

Recipients: Amhara Regional Health Bureau (ARHB), Ethiopia; Uganda Virus Research Institute (UVRI), Uganda; Hanoi Medical University (HMU), Vietnam; The Cambodian National Institute for Public Health (NIPH), Cambodia; and United Nations Office for Project Services (UNOPS)/The Stop TB Partnership (Stop TB), Headquarters (HQ).

Purpose of the Awards: The purpose of these awards is to support implementing a comprehensive combination of HIV prevention, monitoring, diagnosis, and treatment systems; emergency preparedness and response; and reduce infectious disease burden in Ethiopia, Uganda, Vietnam, Cambodia and HQ.

Amount of the Awards: For ARHB, the approximate year 1 award funding amount is $20,000,000 in Federal Fiscal Year (FYY) 2023, subject to the availability of funds. Funding amounts for years 2-5 will be set at continuation. For UVRI, the approximate year 1 award funding amount is $15,000,000 in Federal Fiscal Year (FYY) 2023, subject to the availability of funds. Funding amounts for years 2-5 will be set at continuation. For HMU, the approximate year 1 award funding amount is $2,000,000 in Federal Fiscal Year (FYY) 2023, subject to the availability of funds. Funding amounts for years 2-5 will be set at continuation. For NIPH, the approximate year 1 award funding amount is $800,000 in Federal Fiscal Year (FYY) 2023, subject to the availability of funds. Funding amounts for years 2-5 will be set at continuation. For UNOPS/Stop, the approximate year 1 award funding amount is $750,000 in Federal Fiscal Year (FYY) 2023, subject to the availability of funds. Funding amounts for years 2-5 will be set at continuation.

Authorities: Some of these programs are authorized under Public Law 108-25 (the United States Leadership Against HIV AIDS, Tuberculosis and Malaria Act of 2003).

Additionally, for Hanoi Medical University (HMU), Vietnam, and The Cambodian National Institute for Public Health (NIPH), Cambodia are also authorized under sections 301(a) and 307 of the Public Health Service Act, as amended [42 U.S.C. 241(a) and 2421].

Additionally, United Nations Office for Project Services (UNOPS)/The Stop TB Partnership (Stop TB), Headquarters (HQ) does not include 93.067 funds. This program is solely funded under Assistance Listing 93.494 Global Tuberculosis; Statutory Authority: This program is authorized under Section 307 of the Public Health Service Act [42 U.S.C. 242l], as amended and Section 301(a) of the Public Health Service Act [42 U.S.C. 241(a)], as amended.

Period of Performance: September 30, 2023 through September 29, 2028.

Dated: March 9, 2023.
Terrance Perry,
Chief Grants Management Officer, Centers for Disease Control and Prevention.

[FR Doc. 2023-05256 Filed 3-14-23; 8:45 am]

BILLING CODE 4163-18-P